ENVIRONMENTAL PROTECTION AGENCY

[FRL 12183-01-R9]

Casmalia Resources Superfund Site; Notice of Proposed CERCLA Administrative De Minimis Settlement

AGENCY: Environmental Protection Agency (EPA).

ACTION: Notice; request for public comment.

SUMMARY: In accordance with the Comprehensive Environmental Response, Compensation, and Liability Act, as amended (CERCLA) and the Resource Conservation and Recovery Act (RCRA), the Environmental Protection Agency (EPA) is hereby providing notice of a proposed administrative de minimis settlement concerning the Casmalia Resources Superfund Site in Santa Barbara County, California (the Casmalia Resources Site). CERCLA provides EPA with the authority to enter into administrative de minimis settlements. This settlement is intended to resolve the liabilities of the fifteen settling parties identified below for the Casmalia Resources Site. These parties have also elected to resolve their liability for response costs and potential natural resource damage claims by the United States Fish and Wildlife Service (USFWS) and the National Oceanic and Atmospheric Administration (NOAA). These sixteen parties sent 15,407,266 lbs. of waste to the Casmalia Resources Site, which represents 0.275% of the total Site waste of 5.6 billion pounds. This settlement requires these parties to pay $1,402,842 to EPA.

DATES: EPA will receive written comments relating to the settlement until September 23, 2024. EPA will consider all comments it receives during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is September 5, 2024. Requests for a public meeting may be made by contacting Russell Mechem by email at Mechem.russell@epa.gov. If a public meeting is requested, information about the date and time of the meeting will be published in the local newspaper, The Santa Maria Times, and will be sent to persons on the EPA's Casmalia Resources Site mailing list. To be added to the mailing list, please contact: Alejandro Diaz at (415) 972-3242 or by email at diaz.alejandro@epa.gov.

ADDRESSES: Written comments should be addressed to Casmalia Case Team, U.S. Environmental Protection Agency Region IX, 75 Hawthorne Street (mail code SFD-7-1), San Francisco, California 94105-3901, or may be sent by email to Mechem.russell@epa.gov.

FOR FURTHER INFORMATION CONTACT: A copy of the settlement document and additional information about the Casmalia Resources Site and the proposed settlement may be obtained on the EPA-maintained Casmalia Resources Site website at: https://www.epa.gov/region09/casmalia or by calling Russell Mechem at (415) 972-3192.

SUPPLEMENTARY INFORMATION: Section 122(g) of CERCLA gives EPA authority to enter into administrative de minimis settlements. Section 122(i) of CERCLA and section 7003 of RCRA require that EPA publish notice of a proposed administrative de minimis settlement. This settlement is intended to resolve the liabilities of the settling parties under sections 106 and 107 of CERCLA and section 7003 of RCRA for the Casmalia Resources Site.

The parties that have elected to settle their liability with EPA at this time are as follows:

Altria Group, Inc; AmerisourceBergen Services Corporation; Central Wire, Inc.; City of Richmond; Del Taco, LLC; Dorel Home Furnishings, Inc.; Ford Motor Company; Hixson Metal Finishing; Marriott International, Inc.; Northeastern University; Parker Hannafin Corporation; Parton & Edwards Construction, Inc.; Pfizer Inc.; Search Financial Services, LP; Valley Garbage and Rubbish Company, Inc.; Waste Management, Inc.

Dated: August 15, 2024.
Michael Montgomery,
Director, Superfund Division, U.S. EPA Region IX.

[FR Doc. 2024-18854 Filed 8-21-24; 8:45 am]

BILLING CODE 6560-50-P